ENVIRONMENTAL PROTECTION AGENCY

40 CFR Parts 85, 86, 1036, 1037, 1065, 1066, and 1068

DEPARTMENT OF TRANSPORTATION

National Highway Traffic Safety Administration

49 CFR Parts 523, 534, and 535

[EPA-HQ-OAR-2010-0162; FRL-9219-4; NHTSA 2010-0079]

RIN 2060-AP61; RIN 2127-AK74

Greenhouse Gas Emissions Standards and Fuel Efficiency Standards for Medium- and Heavy-Duty Engines and Vehicles

AGENCIES: Environmental Protection Agency (EPA) and National Highway Traffic Safety Administration (NHTSA), Department of Transportation (DOT).

ACTION: Proposed rules; correction.

SUMMARY: NHTSA and EPA published in the Federal Register of November 30, 2010, proposed rules to establish a comprehensive Heavy-Duty National Program that will increase fuel efficiency and reduce greenhouse gas emissions for on-road heavy-duty vehicles, responding to the President's directive on May 21, 2010, to take coordinated steps to produce a new generation of clean vehicles. That document inadvertently contained some incorrect fuel consumption values in NHTSA-specific tables in the preamble that resulted from using an incorrect conversion factor for determining CO2 emissions to equivalent fuel consumption for gasoline fuel. That document also contained some rounding errors in NHTSA-specific tables in the preamble. This document corrects the rounding errors by adopting a uniform rounding approach for all fuel consumption equivalents for those NHTSA-specific tables and makes the appropriate corrections to the conversions.

FOR FURTHER INFORMATION CONTACT: Rebecca Yoon, Office of Chief Counsel, National Highway Traffic Safety Administration, 1200 New Jersey Avenue, SE., Washington, DC 20590. Telephone: (202) 366-2992.

SUPPLEMENTARY INFORMATION: NHTSA and EPA published in the Federal Register of November 30, 2010, proposed rules to establish a comprehensive Heavy-Duty National Program that will increase fuel efficiency and reduce greenhouse gas emissions for on-road heavy-duty vehicles, responding to the President's directive on May 21, 2010, to take coordinated steps to produce a new generation of clean vehicles. That document inadvertently contained some incorrect fuel consumption values in NHTSA-specific tables in the preamble that resulted from using an incorrect conversion factor for determining CO2 emissions to equivalent fuel consumption for gasoline fuel. The correct values that should have been used in the document are a factor of 1,018 grams of CO2 per gallon of diesel for conversion of diesel fuel, and a factor of 8,887 grams of CO2 per gallon of gasoline for gasoline.

That document also contained some rounding errors in NHTSA-specific tables in the preamble. This document corrects the rounding errors by adopting a uniform rounding approach for all fuel consumption equivalents and makes the appropriate corrections to the conversions. These changes are made to several NHTSA-specific tables and in several places in the NHTSA-specific text of the preamble. The proposed regulatory text for both NHTSA and EPA is not affected.

In FR Doc. 2010-28120, appearing on page 74152 in the Federal Register of Tuesday, November 30, 2010, the following corrections are made:

1. On page 74176, correct Table II-1 and accompanying footnote 39 by revising them to read as follows:

Table II-1—Heavy-Duty Combination Tractor Emissions and Fuel Consumption Standards
| Day cab: Class 7 | Day cab: Class 8 | Sleeper cab: Class 8
2014 Model Year CO2 Grams per Ton-Mile
Low Roof | 104 | 79 | 65
Mid Roof | 104 | 79 | 70
High Roof | 118 | 87 | 73
2014-2016 Model Year Gallons of Fuel per 1,000 Ton-Mile ³⁹
Low Roof | 10.2 | 7.8 | 6.4
Mid Roof | 10.2 | 7.8 | 6.9
High Roof | 11.6 | 8.5 | 7.2
2017 Model Year CO2 Grams per Ton-Mile
Low Roof | 103 | 78 | 64
Mid Roof | 103 | 78 | 69
High Roof | 116 | 86 | 71
2017 Model Year Gallons of Fuel per 1,000 Ton-Mile
Low Roof | 10.1 | 7.7 | 6.3
Mid Roof | 10.1 | 7.7 | 6.8
High Roof | 11.4 | 8.4 | 7.0

2. On page 74194, correct Tables II-7 and II-8 by revising them to read as follows:

³⁹ Manufacturers may voluntarily opt-in to the NHTSA fuel consumption program in 2014 or 2015. If a manufacturer opts-in, the program becomes mandatory. See Section I.B.5 for more information about NHTSA's voluntary opt-in program for MYs 2014 and 2015.

Table II-2—Coefficients for Proposed HD Pickup and Van Target Standards ⁷⁴
Model year | a | b | c | d
Diesel Vehicles:
2014 | 0.0478 | 368 | 0.000470 | 3.61
2015 | 0.0474 | 366 | 0.000466 | 3.60
2016 | 0.0460 | 354 | 0.000452 | 3.48
2017 | 0.0445 | 343 | 0.000437 | 3.37
2018 and later | 0.0416 | 320 | 0.000409 | 3.14
Gasoline Vehicles:
2014 | 0.0482 | 371 | 0.000542 | 4.17
2015 | 0.0479 | 369 | 0.000539 | 4.15
2016 | 0.0469 | 362 | 0.000528 | 4.07
2017 | 0.0460 | 354 | 0.000518 | 3.98
2018 and later | 0.0440 | 339 | 0.000495 | 3.81

Table II-3—Coefficients Proposed for NHTSA's First Alternative and EPA's Alternative HD Pickup and Van Target Standards
Model year | a | b | c | d
Diesel Vehicles:
2014 ᵃ | 0.0478 | 368 | 0.000470 | 3.61
2015 ᵃ | 0.0474 | 366 | 0.000466 | 3.60
2016-2018 | 0.0440 | 339 | 0.000432 | 3.33
2019 and later | 0.0416 | 320 | 0.000409 | 3.14
Gasoline Vehicles:
2014 ᵃ | 0.0482 | 371 | 0.000542 | 4.17
2015 ᵃ | 0.0479 | 369 | 0.000539 | 4.15
2016-2018 | 0.0456 | 352 | 0.000513 | 3.96
2019 and later | 0.0440 | 339 | 0.000495 | 3.81

3. On page 74202, correct Table II-11 by revising it to read as follows:

⁷⁴ The NHTSA proposal provides voluntary standards for model years 2014 and 2015. Target line functions for 2016-2018 are for the second NHTSA alternative described in Section II.C(d)(ii).

Table II-4—Proposed Vocational Diesel Engine Standards Over the Heavy-Duty FTP Cycle
Model year | Standard | Light heavy-duty diesel | Medium heavy-duty diesel | Heavy heavy-duty diesel
2014-2016 | CO2 Standard (g/bhp-hr) | 600 | 600 | 567
| Voluntary Fuel Consumption Standard (gallon/100 bhp-hr) | 5.89 | 5.89 | 5.57
2017 and Later | CO2 Standard (g/bhp-hr) | 576 | 576 | 555
| Fuel Consumption (gallon/100 bhp-hr) | 5.66 | 5.66 | 5.45

4. On page 74202, in the third column, correct the first sentence of the first complete paragraph by revising it to read as follows: “The baseline 2010 model year CO2 performance of these heavy-duty gasoline engines over the Heavy-duty FTP cycle is 660 g CO2/bhp-hr (7.43 gal/100 bhp-hr) in 2010 based on non-GHG certification data provided to EPA by the manufacturers.”

5. On page 74202, in the third column, correct the first sentence of the second complete paragraph by revising it to read as follows: “NHTSA is proposing a 7.06 gallon/100 bhp-hr standard for fuel consumption while EPA is proposing a 627 g CO2/bhp-hr standard tested over the Heavy-duty FTP, effective in the 2016 model year.”

6. On page 74220, correct Table III-2 by revising it to read as follows:

Table III-5—Class 7 and 8 Tractor Baseline CO2 Emissions and Fuel Consumption
| Class 7: Day cab: Low/mid roof | Class 7: Day cab: High roof | Class 8: Day cab: Low/mid roof | Class 8: Day cab: High roof | Class 8: Sleeper cab: Low roof | Class 8: Sleeper cab: Mid roof | Class 8: Sleeper cab: High roof
CO2 (grams CO2/ton-mile) | 111 | 130 | 84 | 96 | 76 | 81 | 89
Fuel Consumption (gal/1,000 ton-mile) | 10.9 | 12.8 | 8.3 | 9.4 | 7.5 | 8.0 | 8.6

7. On page 74225, correct Table III-6 by revising it to read as follows:

Table III-6—Proposed 2014 and 2017 Model Year Tractor Reductions
| Class 7: Day cab: Low/mid roof | Class 7: Day cab: High roof | Class 8: Day cab: Low/mid roof | Class 8: Day cab: High roof | Class 8: Sleeper cab: Low roof | Class 8: Sleeper cab: Mid roof | Class 8: Sleeper cab: High roof
2014 Model Year
2014 MY Voluntary Fuel Consumption Standard (gallon/1,000 ton-mile) | 10.2 | 11.6 | 7.8 | 8.5 | 6.4 | 6.9 | 7.2
2014 MY CO2 Standard (grams CO2/ton-mile) | 104 | 118 | 79 | 87 | 65 | 70 | 73
Percent Reduction | 6% | 9% | 6% | 9% | 15% | 14% | 18%
2017 Model Year
2017 MY Fuel Consumption Standard (gallon/1,000 ton-mile) | 10.1 | 11.4 | 7.7 | 8.4 | 6.3 | 6.8 | 7.0
2017 MY CO2 Standard (grams CO2/ton-mile) | 103 | 116 | 78 | 86 | 64 | 69 | 71
Percent Reduction | 7% | 11% | 7% | 10% | 16% | 15% | 20%

8. On page 74244, correct Table III-12 by revising it to read as follows:

Table III-7—Baseline Vocational Vehicle Performance
| Vocational vehicle: Light heavy-duty | Vocational vehicle: Medium heavy-duty | Vocational vehicle: Heavy heavy-duty
Fuel Consumption Baseline (gallon/1,000 ton-mile) | 37.5 | 22.3 | 11.3
CO2 Baseline (grams CO2/ton-mile) | 382 | 227 | 115

9. On page 74245, correct Table III-14 by revising it to read as follows:

Table III-8—Proposed Vocational Vehicle Standards and Percent Reductions
| Vocational vehicle: Light heavy-duty | Vocational vehicle: Medium heavy-duty | Vocational vehicle: Heavy heavy-duty
2016 MY Fuel Consumption Standard (gallon/1,000 ton-mile) | 35.2 | 20.8 | 10.7
2017 MY Fuel Consumption Standard (gallon/1,000 ton-mile) | 33.8 | 20.0 | 10.5
2014 MY CO2 Standard (grams CO2/ton-mile) | 358 | 212 | 109
2017 MY CO2 Standard (grams CO2/ton-mile) | 344 | 204 | 107
Percent Reduction from 2010 baseline in 2014 MY | 6% | 7% | 5%
Percent Reduction from 2010 baseline in 2017 MY | 10% | 10% | 7%

10. On page 74245, in the third column, correct the second sentence of the third paragraph by revising it to read as follows: “The agencies are projecting a 100% application rate of this technology package to the heavy-duty gasoline engines, which results in a CO2 standard of 627 g/bhp-hr and a fuel consumption standard of 7.06 gallon/100 bhp-hr.”

11. On page 74440, correct Table 1 by revising it to read as follows:

Table 1—Equation Coefficients for Vehicle Configuration Target Standards
Model year | c | d
Alternative 1—Fixed Target Standards
Compression-Ignition Vehicle Coefficients for Model Years 2016 and Later
2016 through 2018 | 0.000432 | 3.33
2019 and later | 0.000409 | 3.14
Spark-Ignition Vehicle Coefficients for Model Years 2016 and Later
2016 through 2018 | 0.000513 | 3.96
2019 and later | 0.000495 | 3.81
Alternative 2—Phased-in Target Standards Compression-Ignition Vehicle Coefficients for Model Years 2016 and Later
2016 | 0.000452 | 3.48
2017 | 0.000437 | 3.37
2018 and later | 0.000409 | 3.14
Spark-Ignition Vehicle Coefficients for Model Years 2016 and Later
2016 | 0.000528 | 4.07
2017 | 0.000518 | 3.98
2018 and later | 0.000495 | 3.81

12. On page 74442, correct Table 2 by revising it to read as follows:

Table 2—Voluntary Compliance Equation Coefficients for Vehicle Fuel Consumption Standards
Model year | c | d
Compression-Ignition Vehicle Coefficients for Voluntary Compliance in Model Years 2013 Through 2015
2013 and 14 | 0.000470 | 3.61
2015 | 0.000466 | 3.60
Spark-Ignition Vehicle Coefficients for Voluntary Compliance in Model Years 2013 Through 2015
2013 and 14 | 0.000542 | 4.17
2015 | 0.000539 | 4.15

13. On page 74444, correct Table 4 by revising it to read as follows:

Table 4—Truck Tractor Fuel Consumption Standards
Regulatory subcategories | Day cab: Class 7 | Day cab: Class 8 | Sleeper cab: Class 8
Fuel Consumption Standards (gallons per 1000 ton-miles) Effective for Model Years 2017 and Later
Low Roof | 10.1 | 7.7 | 6.3
Mid Roof | 10.1 | 7.7 | 6.8
High Roof | 11.4 | 8.4 | 7.0
Fuel Consumption Standards (gallons per 1000 ton-miles) Effective for Model Years 2013 to 2016
Low Roof | 10.2 | 7.8 | 6.4
Mid Roof | 10.2 | 7.8 | 6.9
High Roof | 11.6 | 8.5 | 7.2

14. On page 74445, correct Table 5 by revising it to read as follows:

Table 5—Heavy-Duty Engine Standards
Fuel Consumption Standards (gallons per 100 bhp-hr)
Regulatory subcategory | Light heavy-duty compression-ignition engine | Medium heavy-duty compression-ignition engine |  | Heavy heavy-duty compression-ignition engine |  | Spark-ignition engines
Truck Application | Vocational | Vocational | Tractor | Vocational | Tractor | All.
Effective Model Years | 2017 and later |  |  |  |  | 2016 and later.
Fuel Consumption Standard | 5.66 | 5.66 | 4.78 | 5.45 | 4.52 | 7.06.
Fuel Consumption Standards for Voluntary Compliance (gallons per 100 bhp-hr)
Regulatory subcategory | Light heavy-duty diesel engine | Medium heavy-duty diesel engine |  | Heavy heavy-duty diesel engine |  | Spark-ignition engine
Truck Application | Vocational | Vocational | Tractor | Vocational | Tractor | All.
Effective Model Years | 2013 through 2016 |  |  |  |  | 2013 through 2015.
Voluntary Fuel Consumption Standard | 5.89 | 5.89 | 4.93 | 5.57 | 4.67 | 7.06.

Issued: December 20, 2010.
Joseph S. Carra,
Acting Associate Administrator for Rulemaking, National Highway Traffic Safety Administration, Department of Transportation.
Issued: December 20, 2010.
Margo Tsirigotis Oge,
Director, Office of Transportation Air Quality, Environmental Protection Agency.

[FR Doc. 2010-32726 Filed 12-28-10; 8:45 am]

BILLING CODE 4910-59-P